DEPARTMENT OF THE INTERIOR

50 CFR Part 32

RIN 1018-AG58

Fish and Wildlife Service

2001-2002 Refuge-Specific Hunting and Sport Fishing Regulations

AGENCY: Fish and Wildlife Service, Interior.

ACTION: Final rule.

SUMMARY: The Fish and Wildlife Service (we or the Service) adds seven national wildlife refuges (refuges) to the list of areas open for hunting and/or sport fishing, along with pertinent refuge-specific regulations for such activities; and amend certain regulations on other refuges that pertain to migratory game bird hunting, upland game hunting, big game hunting, and sport fishing for 2001-2002.

DATES: This rule is effective September 4, 2001.

FOR FURTHER INFORMATION CONTACT: Leslie A. Marler, (703) 358-2397; Fax (703) 358-2248.

SUPPLEMENTARY INFORMATION: The National Wildlife Refuge System Administration Act of 1966 (NWRSAA) closes national wildlife refuges to all uses until opened. The Secretary of the Interior (Secretary) may open refuge areas to any use, including hunting and/or fishing, upon a determination that such uses are compatible with the purposes of the refuge. The action also must be in accordance with provisions of all laws applicable to the areas, must be developed in coordination with the appropriate State wildlife agency(ies), must be consistent with the principles of sound fish and wildlife management and administration, and must be otherwise in the public interest. These requirements ensure that we maintain the biological integrity, diversity, and environmental health of the National Wildlife Refuge System (System) for the benefit of present and future generations of Americans.

We review refuge hunting and fishing programs annually to determine whether to include additional refuges or whether individual refuge regulations governing existing programs need modifications, deletions, or additions made to them. Changing environmental conditions, State and Federal regulations, and other factors affecting fish and wildlife populations and habitat may warrant modifications to refuge-specific regulations to ensure the continued compatibility of hunting and fishing programs and that these programs will not materially interfere with or detract from the fulfillment of the System's mission or the purposes of the refuge.

You may find provisions governing hunting and fishing on national wildlife refuges in Title 50 of the Code of Federal Regulations in part 32. We regulate hunting and fishing on refuges to:

• Ensure compatibility with the purpose(s) of the refuge;

• Properly manage the fish and wildlife resource;

• Protect other refuge values;

• Ensure refuge visitor safety; and

• Provide opportunities for high-quality recreational and educational experiences.

On many refuges where we decide to allow hunting and fishing, our general policy of adopting regulations identical to State hunting and fishing regulations is adequate in meeting these objectives. On other refuges, we must supplement State regulations with more restrictive Federal regulations to ensure that we meet our management responsibilities, as outlined under the section entitled “Statutory Authority.” We issue refuge-specific hunting and sport fishing regulations when we open wildlife refuges to either migratory game bird hunting, upland game hunting, big game hunting, or sport fishing. These regulations list the wildlife species that you may hunt or those species subject to sport fishing, seasons, bag limits, methods of hunting or fishing, descriptions of open areas, and other provisions as appropriate. You may find previously issued refuge-specific regulations for hunting and fishing in 50 CFR part 32. In this rulemaking, we are promulgating many of the amendments to these sections to standardize and clarify the existing language of these regulations.

Some refuges make seasonal information available in brochures or leaflets, which we provide for in 50 CFR 25.31, to supplement these refuge-specific regulations.

Plain Language Mandate

In this rule some of the revisions to the individual refuge units are to comply with a Presidential mandate to use plain language in regulations and do not modify the substance of the previous regulations. These types of changes include using “you”to refer to the reader and “we” to refer to the Service and using the word “allow” instead of “permit” when we do not require the use of a permit for an activity.

Statutory Authority

The National Wildlife Refuge System Administration Act (NWRSAA) of 1966 (16 U.S.C. 668dd-668ee, as amended), and the Refuge Recreation Act (RRA) of 1962 (16 U.S.C. 460k-460k-4) govern the administration and public use of national wildlife refuges.

Amendments enacted by the National Wildlife Refuge System Improvement Act (NWRSIA) of 1997 amend and build upon the NWRSAA in a manner that provides an improved “Organic Act” for the System similar to those that exist for other public lands. The NWRSIA serves to ensure that we effectively manage the System as a national network of lands, waters, and interests for the protection and conservation of our Nation's wildlife resources. The NWRSAA states first and foremost that we focus the mission of the System on conservation of fish, wildlife, and plant resources and their habitats. The NWRSIA requires the Secretary, before initiating or allowing a new use of a refuge, or before expanding, renewing, or extending an existing use of a refuge, to determine that the use is compatible and promotes public safety. The NWRSIA establishes as the policy of the United States that wildlife-dependent recreation, when compatible, is a legitimate and appropriate public use of the System, through which the American public can develop an appreciation for fish and wildlife. The NWRSIA establishes six wildlife-dependent recreational uses, when compatible, as the priority general public uses of the System. Those priority uses are: hunting, fishing, wildlife observation and photography, and environmental education and interpretation.

The RRA authorizes the Secretary to administer areas within the System for public recreation as an appropriate incidental or secondary use only to the extent that doing so is practicable and not inconsistent with the primary purpose(s) for which the area was established. This act requires that any recreational use of refuge lands be compatible with the primary purpose(s) for which we established the refuge and not inconsistent with other previously authorized operations.

The NWRSAA and the RRA also authorize the Secretary to issue regulations to carry out the purposes of the acts and regulate uses.

We develop hunting and/or sport fishing plans for each refuge prior to opening it to hunting or fishing. In many cases, we develop refuge-specific regulations to ensure the compatibility of the programs with the purpose(s) for which we established the refuge. We have ensured initial compliance with the NWRSAA and the RRA for hunting and sport fishing on newly acquired refuges through an interim determination of compatibility made at or near the time of acquisition. This policy ensures that we make the determinations required by these acts prior to adding refuges to the lists of areas open to hunting and fishing in 50 CFR part 32. We ensure continued compliance by the development of Comprehensive Conservation Plans, long-term hunting and sport fishing plans, and by annual review of hunting and sport fishing programs and regulations.

In preparation for new openings, we include the following documents in the refuges' “opening package:” (1) Step-down hunting and/or fishing management plan; (2) Appropriate NEPA documentation (Categorical Exclusion, Environmental Assessment, or Environmental Impact Statement); (3) Appropriate decision documentation (e.g., Finding of No Significant Impact); (4) Section 7 evaluation; (5) Copies of letters requesting State and, where appropriate, tribal involvement and the results of the request; (6) A draft news release; (7) Outreach plan; and (8) Draft refuge-specific regulations. Upon review of these documents, we have determined that the opening of these national wildlife refuges to hunting and fishing is compatible with the principles of sound fish and wildlife management and administration and otherwise will be in the public interest.

Response to Comments Received

In the July 3, 2001, Federal Register (66 FR 35193), we published a proposed rulemaking identifying the refuges and their proposed hunting and/or fishing programs and invited public comments. We reviewed and considered all substantive comments following a 30-day comment period.

We received three comments on the proposed rule: two from nongovernmental organizations and one from an individual. One respondent strongly supported the proposed rule.

Comment: Two commenters expressed opposition to opening refuges to hunting and fishing and believe refuges should be places offering protection and shelter. Along this same line, another commenter expressed that “management of NWRs should emphasize wildlife preservation, habitat protection, and native ecosystem restoration over public uses, especially consumptive uses.” Also a commenter suggested that before we authorize a hunting/fishing program we should census populations, evaluate habitat, or use other means of ecological study.

Response: The Refuge System provides opportunities for compatible wildlife-dependent recreational activities. Hunting and fishing are integral parts of a comprehensive wildlife management program. The National Wildlife Refuge System Administration Act of 1966, as amended by the National Wildlife Refuge System Improvement Act of 1997 (NWRSIA), identifies them as two of the priority public uses of the Refuge System. The principal focus of the NWRSIA was to clearly establish a wildlife conservation mission for the Refuge System and provide managers clear direction and procedures for making determinations regarding wildlife conservation and public uses within the units of the System. The Service does manage national wildlife refuges primarily for wildlife preservation, habitat protection, and biological integrity and allows uses only when compatible with achieving the refuge's purposes. In passing the NWRSIA, Congress reaffirmed that the Refuge System was created to conserve fish, wildlife, and plants and their habitats and that this objective had been facilitated by providing Americans opportunities to participate in compatible wildlife-dependent recreation, including hunting and/or fishing on Refuge System lands. Additionally, the NWRSIA established six priority wildlife-dependent uses of the Refuge System, where compatible. These priority uses are: hunting, fishing, wildlife observation, wildlife photography, environmental education, and interpretation. The NWRSIA directs the Secretary to facilitate those uses.

When lands and waters are under consideration for addition to the Refuge System, the Refuge manager will make an interim compatibility determination on any existing priority public uses. The record of decision establishing the refuge must document the completion of such determinations. The results of these determinations are in effect until the completion of a Comprehensive Conservation Plan (CCP). During the development of the CCP and implementation of the National Environmental Policy Act (NEPA) process, we accept and incorporate public comments into the hunting/fishing decision on the refuge. Refuge managers plan efforts well in advance of any proposed changes in order to obtain as much involvement from groups and individuals as possible. This may include public meetings, workshops, news releases, and mailings to interested groups. The refuge manager consults with any affected Service Regional Office, State wildlife agencies, tribes, and the public before opening a refuge to hunting or fishing. The decision to open a refuge to hunting or fishing depends on the provisions of Federal and/or State laws and regulations applicable to the specific refuge and a determination by the Refuge manager that opening an area to hunting will be compatible with the refuge purpose(s). This decision must also be consistent with the principles of sound wildlife management, applicable wildlife objectives, and otherwise be in the public interest (50 CFR 32.1). The refuge manager must submit a hunting or fishing plan that has undergone a public input process as required by NEPA to the Regional Office for approval. The Regional Director approves the plan before the rulemaking process begins. These hunting/fishing plans contain:

a. Step-down hunting/fishing plans (compatibility determinations). The plan should be an appendix to the overall plan for providing public uses on refuges, providing documentation of the hunting/fishing allowed on a refuge, including the relationship of hunting/fishing to refuge purpose(s) goals, objectives, and the System mission;

b. Appropriate NEPA documentation;

c. Appropriate decision documentation;

d. Section 7 evaluation;

e. Copies of letters requesting State and, where appropriate, tribal involvement and the results of the request;

f. Draft news release; and

g. Outreach plan.

Additionally, we review all hunting programs annually to determine if they may affect, adversely or beneficially, threatened or endangered species and their habitat. The refuge manager will initiate consultation, as appropriate, in accordance with Section 7 of the Endangered Species Act and intra-Service consultation procedures.

With regard to censusing populations, evaluating habitat, or other means of ecological study, we base our hunting and fishing programs on State and Federal laws which establish the harvest limits and hunting/fishing seasons. The respective State issues hunting/fishing licenses, not the Refuge System or the refuge manager, and we require hunters/anglers to have all applicable Federal, State, and tribal licenses and/or stamps in their possession when hunting/fishing on a refuge. We only allow hunting/fishing if it is compatible with achieving the purposes of the refuge and in accordance with those State/Federal laws. We may, however, be more restrictive if the local conditions warrant. We periodically adjust the hunting/fishing program to ensure that those allowed activities remain compatible, that the amount of take per hunter/angler is sustainable, and that the take does not affect the viability of a population.

Comment: Another commenter suggested there was “insufficient time and notice given to the public to comment on the process.”

Response: We provided the public a 30-day period to comment on the July 3, 2001, proposed rule. The Refuge-Specific Hunting and Sport Fishing Regulations are an annual process with the proposed rule published each summer with a 30-day comment period. There is nothing contained in this annual regulation outside of the scope of the annual review process where we add refuges or determine whether individual refuge regulations need modifications, deletions, or additions made to them. We make every attempt to collect all of the proposals from refuges nationwide and process them expeditiously to maximize the time available for public review. As we stated in the proposed rule, by allowing a 30-day comment period, we are trying to avoid jeopardizing the establishment of hunting and fishing programs this year (two of the six priority uses established by the NWRSIA) or shortening their duration. Many of these rules also relieve restrictions and allow the public to participate in recreational activities on a number of refuges. Even after issuance of a final rule, we accept comments, suggestions, and concerns for consideration for any appropriate subsequent rulemaking.

Comment: A commenter suggested using a sequence to standardize refuge planning that Defenders of Wildlife recommended in their publication, “Recommendations for Implementing the National Wildlife Refuge System Improvement Act,” and delay our final decisionmaking until population and habitat information required by the National Wildlife Refuge System Improvement Act is presented and analyzed.

Response: Our Comprehensive Conservation Plan (CCP) process consists of eight steps (see the Service Manual chapter published in final in the Federal Register on May 25, 2000, 65 FR 33892—specifically in that policy, 602 FW 3.4C): (1) Preplanning: Planning the Plan; (2) Initiate Public Involvement and Scoping; (3) Review Vision Statement and Goals and Determine Significant Issues; (4) Develop and Analyze Alternatives, Including the Proposed Action; (5) Prepare Draft Plan and NEPA Document; (6) Prepare and Adopt Final Plan; (7) Implement Plan, Monitor, and Evaluate; and (8) Review and Revise Plan. These steps closely parallel the standardized sequence for refuge planning suggested by Defenders of Wildlife in the publication referenced by the comment. In situations where we are unable to develop new data for the CCP, such as conducting biological inventories in advance of the planning effort, the CCP may identify the need for further data collection. In such cases we may delay decisionmaking, pending additional data collection and analysis. There are many sources of data that can aid in CCP development. We include a list of potential data sources in our Comprehensive Conservation Planning policy (602 FW 3.4 C(1)(e)). A lack of data should not delay completion of the CCP.

Comment: A commenter suggested that we thoroughly analyze and discuss all current and proposed habitat management practices for the refuges in question.

Response: We address current and proposed habitat management practices (general principles, tundra, grassland, grazing and haying, wetland/water, moist soil, cropland, and forest management) in existing guidance to managers. This guidance provides a framework for refuge managers to develop specific habitat management programs and requires refuge managers to thoroughly investigate fundamental habitat management practices.

Effective Date

This rule is effective upon publication in the Federal Register. We have determined that any further delay in implementing these refuge-specific hunting and sport fishing regulations would not be in the public interest in that a delay would hinder the effective planning and administration of the hunting and fishing programs. We provided a 30-day comment period for the July 3, 2001, proposed rule. An additional 30-day delay would jeopardize holding the hunting and/or fishing programs this year or shorten their duration and thereby lessen the management effectiveness of this regulation. These rules do not impact the public generally in terms of requiring lead time for compliance. Rather, they relieve restrictions in that they permit activities on refuges that would otherwise not be allowed. Therefore, we find good cause under 5 U.S.C. 553 (d)(3) to make this rule effective upon publication.

We allow the following wildlife-dependent recreational activities:

Hunting of migratory game birds on seven refuges, including:

• Grand Bay National Wildlife Refuge, Alabama and Mississippi

• Great River National Wildlife Refuge, Illinois and Missouri

• Middle Mississippi River National Wildlife Refuge, Illinois and Missouri

• Port Louisa National Wildlife Refuge, Illinois and Iowa

• Clarks River National Wildlife Refuge, Kentucky

• Petit Manan National Wildlife Refuge, Maine

• Deep Fork National Wildlife Refuge, Oklahoma

Upland game hunting on six refuges, including:

• Grand Bay National Wildlife Refuge, Alabama and Mississippi

• Great River National Wildlife Refuge, Illinois and Missouri

• Middle Mississippi River National Wildlife Refuge, Illinois and Missouri

• Port Louisa National Wildlife Refuge, Illinois and Iowa

• Two Rivers National Wildlife Refuge, Illinois and Missouri

• Clarks River National Wildlife Refuge, Kentucky

Big game hunting on eight refuges, including:

• Grand Bay National Wildlife Refuge, Alabama and Mississippi

• Great River National Wildlife Refuge, Illinois and Missouri

• Middle Mississippi River National Wildlife Refuge, Illinois and Missouri

• Port Louisa National Wildlife Refuge, Illinois and Iowa

• Big Oaks National Wildlife Refuge, Indiana

• Clarks River National Wildlife Refuge, Kentucky

• Petit Manan National Wildlife Refuge, Maine

• Clarence Cannon National Wildlife Refuge, Missouri

Sport fishing on nine refuges, including:

• Sacramento River National Wildlife Refuge, California

• Great River National Wildlife Refuge, Illinois and Missouri

• Middle Mississippi River National Wildlife Refuge, Illinois and Missouri

• Port Louisa National Wildlife Refuge, Illinois and Iowa

• Two Rivers National Wildlife Refuge, Illinois and Missouri

• Big Oaks National Wildlife Refuge, Indiana

• Clarks River National Wildlife Refuge, Kentucky

• Clarence Cannon National Wildlife Refuge, Missouri

• Supawna Meadows National Wildlife Refuge, New Jersey

In accordance with the NWRSAA and the RRA, we have determined that these openings are compatible and consistent with the purpose(s) for which we established the respective refuges. A copy of the compatibility determinations for these respective refuges is available by request to the contact noted under the heading FOR FURTHER INFORMATION CONTACT.

We are correcting administrative errors in 50 CFR part 32 that occurred when we inadvertently dropped migratory game bird hunting and sport fishing as activities open to the public in Lacreek National Wildlife Refuge in the State of South Dakota and sport fishing as an activity open to the public in Minidoka National Wildlife Refuge in the State of Idaho, and when we did not remove sport fishing from the list of activities open to the public in Delevan National Wildlife Refuge in the State of California. Lacreek National Wildlife Refuge has been open to sport fishing and migratory game bird hunting since the late 1960s. Minidoka National Wildlife Refuge has been open to sport fishing since the late 1980s. Delevan National Wildlife Refuge closed to sport fishing over a decade ago. We are adding Litchfield Wetland Management District in the State of Minnesota, which has been open since 1978, to clarify a hunting blind issue. Wetland management districts contain numerous waterfowl production areas. Land acquired as a “waterfowl production area” is annually open to hunting of migratory game birds, upland game, and big game (see 50 CFR 32.1).

We are making another technical correction by removing Mark Twain National Wildlife Refuge from the listing for the States of Illinois, Iowa, and Missouri. We have officially renamed units of Mark Twain National Wildlife Refuge as Great River National Wildlife Refuge, Middle Mississippi River National Wildlife Refuge, Port Louisa National Wildlife Refuge, Two Rivers National Wildlife Refuge, and Clarence Cannon National Wildlife Refuge. The headquarters administrative site will retain the name Mark Twain Refuge Complex.

We incorporate this regulation into 50 CFR part 32. Part 32 contains general provisions and refuge-specific regulations for hunting and sport fishing on national wildlife refuges.

Regulatory Planning and Review

In accordance with the criteria in Executive Order 12866, the Service asserts that this rule is not a significant regulatory action. The Office of Management and Budget (OMB) makes the final determination under Executive Order 12866.

a. This rule will not have an annual economic effect of $100 million or adversely affect an economic sector, productivity, jobs, the environment, or other units of the government. A cost-benefit and full economic analysis is not required. The purpose of this rule is to open 12 refuges to hunting and fishing activities. We created five of these refuges from existing units of Mark Twain National Wildlife Refuge in Illinois, Iowa, and Missouri and, as such, hunting and fishing activities were already available to the public. We exclude these five refuges from the analysis because they do not provide an increase in supply of hunting and fishing opportunities. The seven new refuges are located in the States of Alabama, Mississippi, Kentucky, Indiana, Oklahoma, Maine, California, and New Jersey. Fishing and hunting are two of the priority public uses of national wildlife refuges recognized as legitimate and appropriate, and we should facilitate their implementation, subject to such restrictions or regulations as may be necessary to ensure their compatibility with the purpose of each refuge. Many of the 535 existing national wildlife refuges already have programs where we allow fishing and hunting. Not all refuges have the necessary resources and landscape that would make fishing and hunting opportunities available to the public. By opening these seven new refuges, we have determined that we can make high-quality and safe experiences available to the public. This rule establishes new hunting and/or fishing programs at the following refuges: Grand Bay, Clarks River, Big Oaks, Deep Fork, Petit Manan, Sacramento River, and Supawna Meadows National Wildlife Refuge.

Following a best-case scenario, if the refuges establishing new fishing and hunting programs were a pure addition to the supply of such activities, it would mean an estimated increase of 14,630 days of hunting and 18,460 user days of fishing (Table 1). However, the number of Americans participating in fishing and hunting activities has been stable since 1991. Any increase in the supply of these activities introduced by adding refuges where the activity is available will most likely be offset by other sites losing participants, especially if the new sites have higher quality fishing and/or hunting opportunities. Using the value of the difference in the upper and lower bounds of the 95 percent confidence interval for average consumer surplus to represent the estimate of the increase in consumer surplus for higher quality fishing and hunting (Walsh, Johnson, and McKean, 1990 ¹) yields an estimated increase in consumer surplus of $672,000 annually (2001 dollars based on consumer surplus quality change). If the possible fishing and hunting opportunities attributable to this rule are a pure addition to the current supply, then the consumer surplus will be slightly over $2 million annually. As stated earlier, the trend is flat in participation in fishing and hunting activities in the last 10 years and, therefore, if new refuges are open to these activities, the true estimate of the benefits will be closer to $672,000 annually. Consequently, this rule will have a small measurable economic benefit on the United States economy.

¹ Article presented at the Western Regional Science Association Annual Meeting in Molokai, Hawaii, on February 22, 1990.

Table 1.—Estimated Changes in Consumer Surplus From Additional Fishing and Hunting Opportunities in 2001
Refuge | Additional fishing days | Additional hunting days | Fishing and hunting combined
Grand Bay |  | 330 | 330
Clarks River | 5,000 | 5,000 | 10,000
Big Oaks | 7,000 | 9,000 | 16,000
Deep Fork |  | 250 | 250
Petit Manan |  | 50 | 50
Sacramento River | 1,000 |  | 1,000
Supawna Meadows | 5,460 |  | 5,460
Total Days/Year | 18,460 | 14,630 | 33,090
Consumer surplus per day (1987 $) | $39.25 | $41.69 |
Consumer surplus for quality change | $14.90 | $10.66 |
Change in total consumer surplus for quality change | $724,555 | $609,925 (1987$) | $1,334,480
|  | (2001$) | $2,080,661
Change in quality consumer surplus | $275,054 | $155,956 (1987$) | $431,010
|  | (2001$) | $672,011

b. This rule will not create inconsistencies with other agencies' actions. This action pertains solely to the management of the National Wildlife Refuge System. The fishing and hunting activities located on national wildlife refuges account for approximately 1 percent of the available supply in the United States. Any small, incremental change in the supply of fishing and hunting opportunities will not measurably impact any other agency's existing programs.

c. This rule will not materially affect entitlements, grants, user fees, loan programs, or the rights and obligations of their recipients. This rule does not affect entitlement programs. There are no grants or other Federal assistance programs associated with public use of national wildlife refuges.

d. This rule will not raise novel legal or policy issues. It opens seven additional refuges for fishing and hunting activities and continues the practice of allowing recreational public use of national wildlife refuges. Many refuges in the System currently have opportunities for the public to hunt and fish on refuge lands.

Regulatory Flexibility Act

We certify that this rule will not have a significant economic effect on a substantial number of small entities as defined under the Regulatory Flexibility Act (5 U.S.C. 601 et seq.). A Regulatory Flexibility Analysis is not required. Accordingly, a Small Entity Compliance Guide is not required.

Congress created the National Wildlife Refuge System to conserve fish, wildlife, and plants and their habitats and facilitated this conservation mission by providing Americans opportunities to visit and participate in compatible wildlife-dependent recreation, including fishing and hunting, as priority general uses on national wildlife refuges and to better appreciate the value of, and need for, wildlife conservation.

This rulemaking does not increase the types of recreation allowed on the System but establishes hunting and/or fishing programs on seven additional refuges. As a result, there will be opportunities for an increase in wildlife-dependent recreation on national wildlife refuges. The changes in the amount of allowed use are likely to increase visitor activity on the seven national wildlife refuges. But, as stated above, this is likely to be a substitute site for the activity and not necessarily an increase in participation rates for the activity. To the extent visitors spend time and money in the area of the refuge that would not have been spent there anyway, they contribute new income to the regional economy and benefit local businesses.

For purposes of analysis, we will assume that any increase in refuge visitation is a pure addition to the supply of the available activity. This will result in a best-case scenario and is expected to overstate the benefits to local businesses. The latest information on the distances traveled for fishing and hunting activities indicates that over 80 percent of the participants travel less than 100 miles from home to engage in the activity. This indicates that participants will spend their travel-related expenditures in the local economy. Since participation is scattered across the country, many small businesses benefit. The National Survey of Fishing, Hunting, and Wildlife Associated Recreation identifies expenditures for food and lodging, transportation, and other incidental expenses. Using the average expenditures for these categories with the expected maximum additional participation on the System as a result of this rule yields the following estimates (Table 2) compared to total business activity for these sectors.

Table 2.—Estimation of the Additional Fishing and Hunting Opportunities With the Opening of Seven Refuges to Fishing and/or Hunting in 2001
| U.S. total participation in 1996 | Average per day | Current refuge participation w/o duplication | Possible additional refuge participation
Anglers:
Total days spent | 626 mil |  | 6.7 mil | 18,460
Total expenditures | $38.0 bil | $61 | $406.3 mil | $1,120,575
Trip related | $15.4 bil | $25 | $164.6 mil | $454,128
Food and lodging | $6.0 bil | $10 | $64.1 mil | $176,933
Transportation | $3.7 bil | $6 | $39.6 mil | $109,109
Other | $5.7 bil | $9 | $60.9 mil | $168,086
Hunters:
Total days spent | 257 mil |  | 2.0 mil | 14,630
Total expenditures | $21 bil | $82 | $164.4 mil | $1,195,447
Trip related | $5.2 bil | $20 | $40.7 mil | $296,016
Food and lodging | $2.5 bil | $10 | $19.6 mil | $142,315
Transportation | $1.8 bil | $7 | $14.1 mil | $102,467
Other | $900 mil | $4 | $7.0 mil | $51,233

Using a national impact multiplier for wildlife-associated recreation developed for the report “1996 National and State Economic Impacts of Wildlife Watching” for the estimated increase in direct expenditures yields a total economic impact of $7.7 million (2001 dollars). Since we know that most of the fishing and hunting occur within 100 miles of a participant's residence, then it is unlikely that most of this spending would be “new” money coming into a local economy and, therefore, would be offset with a decrease in some other sector of the local economy. The net gain to the local economies would be no more than $7.7 million and most likely considerably less. Since 80 percent of the participants travel less than 100 miles to engage in hunting and fishing activities, their spending patterns would not add new money in the local economy and, therefore, the real impact would be on the order of $1.5 million annually. Taken as percent of similar figures for this type of economic activity, it shows that the maximum increase at most (if all spending were new money) ranges from .01 percent to 3.58 percent for local retail trade spending (Table 3). Even the three counties in Indiana (Big Oaks National Wildlife Refuge) that would have a share of the $3.7 million increase in recreationist spending (if all spending were from outside the retail area) would average approximately $7,000 per establishment.

The majority of affected counties have a large percentage of their retail trade establishments that qualify as small businesses. With such a small increase in overall spending that we anticipate from this rule, it is unlikely that a substantial number of small entities will have more than a small benefit from the increased recreationist spending near the affected refuges.

Table 3.—Comparative Expenditures for Retail Trade Associated With Additional Refuge Visitation in 2001
Refuge/County(ies) | Retail trade in 1997 | Estimated max. refuge addition | Addition as a % of total | Total retail establ. | Establ. with <10 emp.
Grand Bay | $77 thou |  | .01% |  |
Mobile, AL | $608 mil |  |  | 2,229 | 1,467
Jackson, MS | $131 mil |  |  | 681 | 491
Clarks River |  | $2.3 mil | 1.03 |  |
Graves, KY | $37 mil |  |  | 175 | 119
McCracken, KY | $154 mil |  |  | 659 | 443
Marshall, KY | $36 mil |  |  | 168 | 122
Big Oaks |  | $3.7 mil | 3.58 |  |
Jefferson, IN | $45 mil |  |  | 218 | 153
Jennings, IN | $32 mil |  |  | 100 | 70
Ripley, IN | $27 mil |  |  | 168 | 113
Deep Fork |  | $58 thou | .18 |  |
Okmulgee, OK | $32 mil |  |  | 194 | 140
Petit Manan |  | $12 thou | .03 |  |
Washington, ME | $40 mil |  |  | 281 | 206
Sacramento River |  | $233 thou | .06 |  |
Butte, CA | $287 mil |  |  | 1,095 | 736
Lake, CA | $58 mil |  |  | 296 | 229
Tehama, CA | $70 mil |  |  | 244 | 168
Supawna Meadows |  | $1.3 mil | 1.93 |  |
Salem, NJ | $66 mil |  |  | 305 | 203

Many small businesses may benefit from some increased wildlife refuge visitation. However, we expect that much of this benefit will be offset as recreationists spend the same money in a different location. We expect that the incremental recreational opportunities will be scattered, and so we do not expect that the rule will have a significant economic effect (benefit) on a substantial number of small entities in any region or nationally.

Small Business Regulatory Enforcement Fairness Act

The rule is not a major rule under 5 U.S.C. 804(2), the Small Business Regulatory Enforcement Fairness Act. This rule:

a. Does not have an annual effect on the economy of $100 million or more. The additional fishing and hunting opportunities at the seven refuges that do not currently have these programs would generate expenditures by anglers and hunters with an economic impact estimated at $7.7 million per year (2001 dollars). Consequently, the maximum benefit of this rule for businesses, both small and large, would not be sufficient to make this a major rule. The impact would be scattered across the country and would most likely not be significant in any local area.

b. Will not cause a major increase in costs or prices for consumers, individual industries, Federal, State, or local government agencies, or geographic regions. This rule will have only a slight effect on the costs of hunting and fishing opportunities of Americans. Under the assumption that any additional hunting and fishing opportunities would be of high quality, participants would be attracted to the refuge. If the refuge were closer to the participant's residence, then a reduction in travel costs would occur and benefit the participants. We do not have information to quantify this reduction in travel cost; but we have to assume that, since most people travel less than 100 miles to hunt and fish now, the reduced travel cost would be small for the additional days of hunting and fishing generated by this rule. We do not expect this rule to affect the supply or demand for fishing and hunting opportunities in the United States and, therefore, it should not affect prices for fishing and hunting equipment and supplies, or the retailers that sell equipment. Additional refuge hunting and fishing opportunities would account for less than .04 percent of the available opportunities in the United States.

c. Does not have significant adverse effects on competition, employment, investment, productivity, innovation, or the ability of United States-based enterprises to compete with foreign-based enterprises. Because this rule represents such a small proportion of recreational spending of a small number of affected hunters and anglers (approximately a maximum impact of $7.7 million annually), there will be no measurable economic effect on the wildlife-dependent industry, which has annual sales of equipment and travel expenditures of $72 billion nationwide. This rule adds seven refuges to the list of refuges that have hunting and/or fishing programs. Refuges that establish hunting and fishing programs may hire additional staff from the local community to assist with the programs, but this would not be a significant increase with this rule adding only seven refuges. Consequently, there are no anticipated significant employment or small business effects.

Unfunded Mandates Reform Act

Since this rule applies to public use of federally owned and managed refuges, it does not impose an unfunded mandate on State, local, or tribal governments or the private sector of more than $100 million per year. The rule does not have a significant or unique effect on State, local, or tribal governments or the private sector. A statement containing the information required by the Unfunded Mandates Reform Act (2 U.S.C. 1531 et seq.) is not required.

Takings (Executive Order 12630)

In accordance with Executive Order 12630, the rule does not have significant takings implications. This regulation will affect only visitors at national wildlife refuges and limit what they can do while they are on a refuge.

Federalism (Executive Order 13132)

As discussed in the Regulatory Planning and Review and Unfunded Mandates Reform Act sections above, this rule does not have sufficient federalism implications to warrant the preparation of a Federalism Assessment under Executive Order 13132. In preparing this rule, we worked with State governments.

Civil Justice Reform (Executive Order 12988)

In accordance with Executive Order 12988, the Office of the Solicitor has determined that the rule does not unduly burden the judicial system and meets the requirements of sections 3(a) and 3(b)(2) of the Order. The regulation will clarify established regulations and result in better understanding of the regulations by refuge visitors.

Energy Supply, Distribution, or Use (Executive Order 13211)

On May 18, 2001, the President issued Executive Order 13211 on regulations that significantly affect energy supply, distribution, and use. Executive Order 13211 requires agencies to prepare Statements of Energy Effects when undertaking certain actions. Because this rule only adds seven refuges to the list of refuges that have hunting and/or fishing programs and makes minor changes to other refuges open to those activities, it is not a significant regulatory action under Executive Order 12866 and is not expected to significantly affect energy supplies, distribution, and use. Therefore, this action is not a significant energy action and no Statement of Energy Effects is required.

Consultation and Coordination with Indian Tribal Governments (Executive Order 13175)

In accordance with Executive Order 13175, we have evaluated possible effects on federally recognized Indian tribes and have determined that there are no effects. We coordinate recreational use on national wildlife refuges with tribal governments having adjoining or overlapping jurisdiction before we propose the regulations. This regulation is consistent with and not less restrictive than tribal reservation rules.

Paperwork Reduction Act

This regulation does not contain any information collection requirements other than those already approved by the Office of Management and Budget under the Paperwork Reduction Act (OMB Control Number is 1018-0102). See 50 CFR 25.23 for information concerning that approval. An agency may not conduct or sponsor and a person is not required to respond to a collection of information unless it displays a currently valid OMB control number.

Endangered Species Act Section 7 Consultation

In preparation for new openings, we include Section 7 consultation documents approved by the Service's Endangered Species program in the refuge's “openings package” for Regional review and approval from the Washington Office. We reviewed the changes in hunting and fishing regulations herein with regard to Section 7 of the Endangered Species Act of 1973 (16 U.S.C. 1531-1543). For the national wildlife refuges proposed to open for hunting and/or fishing, we have determined that Grand Bay, Supawna Meadows, Petit Manan, Sacramento River (for valley elderberry longhorn beetle), and Clarks River (for bald eagles) National Wildlife Refuges will not likely adversely affect and Clarks River (for Indiana bat) and Sacramento River National Wildlife Refuges will not affect the continued existence of any endangered or threatened species or result in the destruction or adverse modification of designated critical habitat of such species within the System.

We also comply with Section 7 of the Endangered Species Act of 1973 (16 U.S.C. 1531-1543) when developing Comprehensive Conservation Plans, step-down management plans for public use of refuges, and prior to implementing any new or revised public recreation program on a refuge as identified in 50 CFR 26.32. We also make determinations required by the Endangered Species Act on a case-by-case basis before the addition of a refuge to the lists of areas open to hunting or fishing as contained in 50 CFR 32.7.

National Environmental Policy Act

We analyzed this rule in accordance with the criteria of the National Environmental Policy Act of 1969 (NEPA) (42 U.S.C. 4332(C)) and 516 DM 6, Appendix 1. This rule does not constitute a major Federal action significantly affecting the quality of the human environment. An environmental impact statement/assessment is not required.

A categorical exclusion from NEPA documentation applies to this amendment of refuge-specific hunting and fishing regulations since it is technical and procedural in nature, and the environmental effects are too broad, speculative, or conjectural to lend themselves to meaningful analysis (516 DM 2, Appendix 1.10).

Prior to the addition of a refuge to the list of areas open to hunting and fishing in 50 CFR part 32, we develop hunting and fishing plans for the affected refuges. We incorporate these proposed refuge hunting and fishing activities in the refuge Comprehensive Conservation Plans (CCPs) and/or other step-down management plans, pursuant to our refuge planning guidance in 602 FW 1, 3, and 4. We prepare these CCPs and step-down plans in compliance with section 102(2)(C) of NEPA, and the Council on Environmental Quality's regulations for implementing NEPA in 40 CFR parts 1500-1508. We invite the affected public to participate in the review, development, and implementation of these plans.

Available Information for Specific Refuges

Individual refuge headquarters retain information regarding public use programs and the conditions that apply to their specific programs and maps of their respective areas. You may also obtain information from the Regional offices at the addresses listed below:

Region 1—California, Hawaii, Idaho, Nevada, Oregon, and Washington. Regional Chief, National Wildlife Refuge System, U.S. Fish and Wildlife Service, Eastside Federal Complex, Suite 1692, 911 N.E. 11th Avenue, Portland, Oregon 97232-4181; Telephone (503) 231-6214.

Region 2—Arizona, New Mexico, Oklahoma, and Texas. Regional Chief, National Wildlife Refuge System, U.S. Fish and Wildlife Service, Box 1306, 500 Gold Avenue, Albuquerque, New Mexico 87103; Telephone (505) 248-7419.

Region 3—Illinois, Indiana, Iowa, Michigan, Minnesota, Missouri, Ohio, and Wisconsin. Regional Chief, National Wildlife Refuge System, U.S. Fish and Wildlife Service, 1 Federal Drive, Federal Building, Fort Snelling, Twin Cities, Minnesota 55111; Telephone (612) 713-5401.

Region 4—Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, Georgia 30345; Telephone (404) 679-7166.

Region 5—Connecticut, Delaware, Maine, Maryland, Massachusetts, New Hampshire, New Jersey, New York, Pennsylvania, Rhode Island, Vermont, Virginia, and West Virginia. Regional Chief, National Wildlife Refuge System, U.S. Fish and Wildlife Service, 300 Westgate Center Drive, Hadley, Massachusetts 01035-9589; Telephone (413) 253-8306.

Region 6—Colorado, Kansas, Montana, Nebraska, North Dakota, South Dakota, Utah, and Wyoming. Regional Chief, National Wildlife Refuge System, U.S. Fish and Wildlife Service, 134 Union Blvd., Lakewood, Colorado 80228; Telephone (303) 236-8145.

Region 7—Alaska. Regional Chief, National Wildlife Refuge System, U.S. Fish and Wildlife Service, 1011 E. Tudor Rd., Anchorage, Alaska 99503; Telephone (907) 786-3545.

Primary Author

Leslie A. Marler, Management Analyst, National Wildlife Refuge System, Division of Conservation Planning and Policy, U.S. Fish and Wildlife Service, Arlington, VA 22203, is the primary author of this rulemaking document.

List of Subjects in 50 CFR Part 32

Fishing, Hunting, Reporting and recordkeeping requirements, Wildlife, Wildlife refuges.

For the reasons set forth in the preamble, we amend Title 50, Chapter I, subchapter C of the Code of Federal Regulations as follows:

PART 32—[AMENDED]

1. The authority citation for part 32 continues to read as follows:

Authority: 5 U.S.C. 301; 16 U.S.C. 460k, 664, 668dd-668ee, and 715i.

2. In § 32.7 “What refuge units are open to hunting and/or fishing?” by:

a. Alphabetically adding Grand Bay National Wildlife Refuge in the States of Alabama and Mississippi;

b. Alphabetically adding Sacramento River National Wildlife Refuge, removing “Salton Sea National Wildlife Refuge,” and alphabetically adding “Sonny Bono Salton Sea National Wildlife Refuge” in the State of California;

c. Removing Mark Twain National Wildlife Refuge in the States of Illinois, Iowa, and Missouri;

d. Alphabetically adding Great River National Wildlife Refuge, Middle Mississippi River National Wildlife Refuge, Port Louisa National Wildlife Refuge, and Two Rivers National Wildlife Refuge in the State of Illinois;

e. Alphabetically adding Big Oaks National Wildlife Refuge in the State of Indiana;

f. Alphabetically adding Port Louisa National Wildlife Refuge in the State of Iowa;

g. Alphabetically adding Clarks River National Wildlife Refuge in the State of Kentucky;

h. Alphabetically adding Petit Manan National Wildlife Refuge in the State of Maine;

i. Alphabetically adding Litchfield Wetland Management District in the State of Minnesota;

j. Alphabetically adding Clarence Cannon National Wildlife Refuge, Great River National Wildlife Refuge, Middle Mississippi River National Wildlife Refuge, and Two Rivers National Wildlife Refuge in the State of Missouri; and

k. Removing “Arid Lands National Wildlife Refuge” in the State of Washington and alphabetically adding “Hanford Reach National Monument/Saddle Mountain National Wildlife Refuge” to read as follows:

§ 32.7 What refuge units are open to hunting and/or fishing?

3. In § 32.20 Alabama by alphabetically adding Grand Bay National Wildlife Refuge to read as follows:

§ 32.20 Alabama.

* * * * *

Grand Bay National Wildlife Refuge

Refer to § 32.43 Mississippi for regulations.

* * * * *

4. In § 32.22 Arizona by:

a. Revising paragraph A., adding paragraph B.4., and revising paragraphs C., and D. of Bill Williams River National Wildlife Refuge;

b. Revising paragraph A. of Cibola National Wildlife Refuge; and

c. Revising paragraph A.4.i., adding paragraphs A.4.iii, and A.4.iv., revising paragraph A.5., adding paragraphs A.6., and B.5., and revising paragraph D. of Havasu National Wildlife Refuge to read as follows:

§ 32.22 Arizona.

* * * * *

Bill Williams River National Wildlife Refuge

A. Hunting of Migratory Game Birds. We allow hunting of mourning and white-winged doves on designated areas of the refuge subject to the following conditions:

1. We allow only shotguns.

2. You may possess only nontoxic shot while in the field.

3. You may not hunt within 50 yards (45 m) of any building, road, or levee.

B. Upland Game Hunting. * * *

* * * * *

4. You may not hunt within 50 yards (45 m) of any building, road, or levee.

C. Big Game Hunting. We allow hunting of desert bighorn sheep on designated areas of the refuge with a valid State permit.

D. Sport Fishing. We allow sport fishing in designated areas subject to the following condition: We prohibit personal watercraft (PWC, as defined by State law), air boats, or hovercraft on all waters within the boundaries of the refuge.

* * * * *

Cibola National Wildlife Refuge

A. Hunting of Migratory Game Birds. We allow hunting of geese, ducks, coots, moorhens, common snipe, and mourning and white-winged doves on designated areas of the refuge subject to the following conditions:

1. We allow only shotguns.

2. You may possess only approved nontoxic shot while in the field.

3. You must obtain a permit to enter the Island Unit.

4. You must pay a hunt fee in portions of the refuge. Consult refuge hunting leaflet for locations.

5. We do not allow pit or permanent blinds.

6. You may hunt only during seasons, dates, times, and areas posted by signs and/or indicated on refuge leaflets, special regulations, and maps available at the refuge office.

7. You must remove all temporary blinds, boats, and decoys from the refuge following each day's hunt.

8. We do not allow hunting within 50 yards (45 m) of any public roads or levees.

9. We close Farm Unit 2 to all hunting except goose hunting during the Arizona waterfowl season.

10. Consult the refuge hunt leaflet for the shot limit.

11. The area known as Pretty Water is open to waterfowl hunting from ½ hour before sunrise to 3:00 p.m. MST during the Arizona and California waterfowl seasons.

12. The Hart Mine Marsh area is open to hunting from 10 a.m. to 3 p.m. daily during goose season.

* * * * *

Havasu National Wildlife Refuge

A. Hunting of Migratory Game Birds. * * *

* * * * *

4. * * *

i. We require a fee for waterfowl hunting, and you must have in your possession proof of payment (refuge permit) while hunting.

* * * * *

iii. Waterfowl hunters must hunt only at the assigned location.

iv. We limit waterfowl hunters to 16 shells each.

5. You must remove temporary blinds, boats, hunting equipment, and decoys from the refuge following each day's hunt.

6. You may not hunt within 50 yards (45m) of any building, road, or levee.

B. Upland Game Hunting. * * *

* * * * *

5. You may not hunt within 50 yards (45 m) of any building, road, or levee.

* * * * *

D. Sport Fishing. We allow fishing on designated areas of the refuge subject to the following conditions:

1. We close designated portions of the Topock Marsh to all entry from October 1 through January 31.

2. We prohibit personal watercraft (PWC, as defined by State law), air boats, or hovercraft on all waters within Topock Marsh or other waters indicated by signs or buoys.

* * * * *

5. In § 32.24 California by:

a. Revising paragraph D. of Delevan National Wildlife Refuge;

b. Revising paragraph A. of Humboldt Bay National Wildlife Refuge;

c. Alphabetically adding Sacramento River National Wildlife Refuge;

d. Revising the heading “Salton Sea National Wildlife Refuge” to read “Sonny Bono Salton Sea National Wildlife Refuge,” placing it in appropriate alphabetical order, and revising paragraph A.2.;

e. Revising paragraphs A.1. and D.2. of San Luis National Wildlife Refuge; and

f. Revising San Pablo Bay National Wildlife Refuge to read as follows:

§ 32.24 California.

* * * * *

Delevan National Wildlife Refuge

* * * * *

D. Sport Fishing. [Reserved]

* * * * *

Humboldt Bay National Wildlife Refuge

A. Hunting of Migratory Game Birds. We allow hunting of geese (except Canada geese), ducks, coots, common moorhens, and snipe on designated areas of the refuge subject to the following conditions:

1. We allow hunting on Salmon Creek only on Tuesdays and Saturdays from ½ hour before sunrise until 1:00 p.m., and we require a valid refuge daily permit issued prior to each hunt by random drawing.

2. We restrict hunters on Salmon Creek to within 100 feet (30 m) of the assigned hunt site except for placing and retrieving decoys, retrieving downed birds, or traveling to and from the parking area.

3. The Teal Island and Egret Island units of the refuge are open on Saturday, Sunday, Wednesday, Federal holidays, and the opening and closing days of the State waterfowl hunting season.

4. Portions of the Jacoby Creek, Eureka Slough, and Table Bluff units of the refuge are open during the State waterfowl hunting season. We designate the Jacoby Creek and Eureka Slough units boat access only.

5. We require that adults 18 years of age or older accompany hunters under the age of 16.

6. You must unload firearms while transporting them between the parking area and designated blind sites in the Salmon Creek unit.

7. You may possess no more than 25 approved nontoxic shells while in the field.

8. You may use only portable blinds or blinds constructed of vegetation in the free-roam hunting areas.

9. You must remove all blinds, decoys, shell casings, and other personal equipment from the refuge following each day's hunt.

* * * * *

Sacramento River National Wildlife Refuge

A. Hunting of Migratory Game Birds. [Reserved]

B. Upland Game Hunting. [Reserved]

C. Big Game Hunting. [Reserved]

D. Sport Fishing. We allow fishing on Packer Lake subject to the following conditions:

1. Due to primitive access, you may fish only from boats up to 14 feet (4.2 m) long and canoes.

2. You may fish from the western shoreline from sunrise to sunset.

* * * * *

San Luis National Wildlife Refuge

A. Hunting of Migratory Game Birds. * * *

1. You may use only portable blinds or blinds constructed of vegetation in the free-roam hunting area.

* * * * *

D. Sport Fishing. * * *

* * * * *

2. We allow only the use of pole and line or rod and reel, and anglers must attend their equipment at all times.

* * * * *

San Pablo Bay National Wildlife Refuge

A. Hunting of Migratory Game Birds. We allow hunting of geese, ducks, and coots on designated areas of the refuge subject to the following conditions:

1. You may possess only approved nontoxic shot while in the field.

2. Access is by foot, bicycle, and boat only.

3. You must remove all portable blinds, decoys, and personal equipment following each day's hunt.

4. We allow floating blinds on the refuge, and they are available to any hunter on a first-come, first-serve basis. Floating blinds require refuge manager approval or are subject to removal.

5. We prohibit digging into levees and slough channels.

6. We allow only dogs engaged in hunting activities on the refuge during waterfowl season.

B. Upland Game Hunting. We allow hunting of pheasant on designated areas of the refuge in accordance with State hunting regulations and the following conditions:

1. Contact the refuge manager for details.

2. You may possess a maximum of 25 approved nontoxic shot while in the field.

3. Access is by foot and bicycle only.

4. We allow only dogs engaged in hunting activities on the refuge during pheasant season.

C. Big Game Hunting. [Reserved]

D. Sport Fishing. [Reserved]

Sonny Bono Salton Sea National Wildlife Refuge

A. Hunting of Migratory Game Birds. * * *

* * * * *

2. You must hunt from assigned blinds on the Union Tract and within 100 feet (30 m) of blind sites on the Hazard Tract, except when shooting to retrieve crippled birds.

* * * * *

6. In § 32.27 Delaware by revising Prime Hook National Wildlife Refuge to read as follows:

§ 32.27 Delaware.

* * * * *

Prime Hook National Wildlife Refuge

A. Hunting of Migratory Game Birds. We allow hunting of migratory game birds on designated areas of the refuge subject to the following conditions:

1. Consult the refuge hunting brochure for specific information regarding species, areas, and days open to hunting, rules, and regulations.

2. We require a refuge permit and fee for waterfowl hunting.

3. Refuge hunt dates will correspond with State-established migratory game bird seasons.

B. Upland Game Hunting. We allow hunting of upland species on designated areas of the refuge subject to the following conditions:

1. Consult the refuge hunting brochure for specific information regarding species, areas, and days open to hunting, rules, and regulations.

2. You may possess only approved nontoxic shot while in the field.

3. We do not allow upland game hunting beginning March 1 through August 31.

C. Big Game Hunting. We allow hunting of white-tailed deer on designated areas of the refuge subject to the following conditions:

1. Consult the refuge hunting brochure for specific information regarding areas and days open to hunting, rules, and specific regulations.

2. You may use only portable tree stands and must remove them from the refuge following each day's hunt.

3. During the firearm deer season, hunters must wear in a conspicuous manner on head, chest, and back a minimum of 400 square inches (10.16 m²) of solid-colored hunter orange clothing or material.

4. We require a refuge permit and fee for deer hunting.

D. Sport Fishing. We allow fishing and crabbing on designated areas of the refuge subject to the following conditions:

1. Consult refuge regulations regarding access areas, launch points, and motor restrictions.

2. We allow fishing only from sunrise to sunset in all areas except those areas marked by signs as closed to public entry.

7. In § 32.28 Florida by:

a. Adding paragraph D.8. of J. N. “Ding” Darling National Wildlife Refuge;

b. Revising paragraphs A.5., A.7., A.8., A.17., and D. of Merritt Island National Wildlife Refuge; and

c. Revising paragraph A. of Ten Thousand Islands National Wildlife Refuge to read as follows:

§ 32.28 Florida.

* * * * *

J. N. “Ding” Darling National Wildlife Refuge

* * * * *

D. Sport Fishing. * * *

* * * * *

8. With the exception of those nonregulated species generally used as bait, all fish caught for commercial purposes in the waters of the refuge or transported into the refuge must remain in an intact and whole condition until removed from the refuge.

* * * * *

Merritt Island National Wildlife Refuge

A. Hunting of Migratory Game Birds. * * *

* * * * *

5. All persons must successfully complete a Firearm Hunter Education course before they may hunt and must possess the Firearm Hunter Education certificate when hunting.

* * * * *

7. We close the refuge between sunset and sunrise except waterfowl hunters may enter at 4:00 a.m. on hunting days with a valid Refuge Hunt Permit.

8. You may not park along Blackpoint Wildlife Drive, Playalinda Beach Road, or Scrub Ridge Trail for the purpose of waterfowl hunting.

* * * * *

17. Boats must not exceed idle speed in Bairs Cove and KARS (Kennedy Athletic Recreational Social Organization) Marina or 8 mph in Haulover Canal.

* * * * *

D. Sport Fishing. You may fish, crab, clam, oyster, and shrimp in designated areas of the refuge subject to the following conditions:

1. We close the refuge between sunset and sunrise except anglers may enter after dark to fish from a boat with a valid Refuge Night Fishing Permit. We allow nighttime boat launching only at Bairs Cove and Beacon 42 Fish Camp. We allow night fishing only in Haulover Canal and the open waters of Mosquito Lagoon, Indian River Lagoon, and Banana River.

2. Anglers must attend their lines at all times.

3. Vehicles must use only designated public access routes and boat launching areas north and south of Haulover Canal.

4. You may not launch boats, crab, or fish from Black Point Wildlife Drive.

5. You may not use air-thrust boats, hovercraft, personal watercraft, or similar craft on refuge waters.

6. You may not use motorized boats in the Banana River Manatee Sanctuary (north of KARS Park on the west side of the Barge Channel and north of the Air Force power line on the east side of the Barge Channel). This includes any boat having an attached motor or a nonattached motor capable of use (including electric trolling motors). This is in effect throughout the year.

7. Boats must not exceed idle speed in Bairs Cove and KARS Marina or 8 mph in Haulover Canal.

8. We prohibit harvest or possession of horseshoe crabs while on the refuge.

* * * * *

Ten Thousand Islands National Wildlife Refuge

A. Hunting of Migratory Game Birds. You may hunt ducks and coots in designated areas of the refuge in accordance with State regulations and subject to the following conditions:

1. We allow hunting only on Wednesday, Saturday, Sunday, Thanksgiving, Christmas, and New Year's Day within the State season from ½ hour before sunrise until noon.

2. You must possess a valid refuge hunt permit at all times while hunting on the refuge.

3. You will need to break down temporary blinds, including those of native vegetation, following each day's hunt. We prohibit the construction of permanent or pit blinds.

4. You must remove decoys, guns, blinds, and boats from the refuge by 1:00 p.m. daily.

5. We allow public hunting only in the area shown on the refuge hunt brochure. We will post closed areas with signs or delineate them by red reflectors on posts along the small road extending south off U.S. 41. Entry into the refuge for hunting may not begin until 4:00 a.m. for designated hunt days.

6. We prohibit air-thrust boats, hovercraft, personal watercraft, and off-road vehicles at all times. We limit watercraft to outboard engines with a maximum of 25 hp.

7. We encourage the use of dogs to retrieve dead or wounded waterfowl. Dogs must remain under the control of their handlers at all times.

8. You may possess only approved nontoxic shot while in the field.

9. We require all guides to purchase and possess a refuge Special Use Permit.

10. We prohibit the possession of alcoholic beverages.

11. Hunters under the age of 16 may hunt only with an adult 21 years of age or older, and they must remain in sight and normal voice contact with the adult.

12. You may take ducks and coots with shotguns only. We prohibit the possession of handguns and other long guns.

* * * * *

8. In § 32.29 Georgia by revising paragraph C. of Okefenokee National Wildlife Refuge to read as follows:

§ 32.29 Georgia.

* * * * *

Okefenokee National Wildlife Refuge

* * * * *

C. Big Game Hunting. We allow hunting of white-tailed deer and feral hog on designated areas of the refuge subject to the following condition: We require a refuge permit for Suwannee Canal Unit.

* * * * *

9. In § 32.31 Idaho by:

a. Revising paragraphs A.1., A.3., A.4., and D.1. of Deer Flat National Wildlife Refuge; and

b. Revising paragraph D. of Minidoka National Wildlife Refuge to read as follows:

§ 32.31 Idaho.

* * * * *

Deer Flat National Wildlife Refuge

A. Hunting of Migratory Game Birds. * * *

1. You may hunt only ducks, coots, and doves on the Lake Lowell sector.

* * * * *

3. Snipe and dove hunters may possess only approved nontoxic shot while in the field.

4. We restrict nonmotorized boats and boats with electric motors only to the area bounded by the water's edge and extending to a point 200 yards (180 m) lakeward in hunting area 1 on the Lake Lowel sector.

* * * * *

D. Sport Fishing. * * *

1. During the waterfowl season, we allow fishing only within the area bounded by the water's edge extending to a point 200 yards (180 m) lakeward in front of the Lower Dam, fishing area A and in front of the Upper Dam, and fishing area B on the Lake Lowell sector.

Minidoka National Wildlife Refuge

* * * * *

D. Sport Fishing. We allow sport fishing on designated areas of the refuge subject to the following conditions:

1. We allow fishing from boats on the main reservoir from Minidoka Dam to the west tip of Bird Island, April 1 through September 30.

2. We allow fishing from boats within boating lanes at Smith and Gifford Springs year around.

3. We allow bank fishing all year.

10. In § 32.32 Illinois by:

a. Alphabetically adding Great River National Wildlife Refuge;

b. Removing Mark Twain National Wildlife Refuge;

c. Alphabetically adding Middle Mississippi River National Wildlife Refuge;

d. Alphabetically adding Port Louisa National Wildlife Refuge;

e. Alphabetically adding Two Rivers National Wildlife Refuge; and

f. Revising paragraphs A.1., B.1., B.2., B.3., C.1., C.2., C.3., D.1. and D.2. of Upper Mississippi River National Wildlife and Fish Refuge to read as follows:

§ 32.32 Illinois.

* * * * *

Great River National Wildlife Refuge

A. Hunting of Migratory Game Birds. We allow hunting of migratory game birds on designated areas of the refuge subject to brochures and posted regulations.

B. Upland Game Hunting. We allow hunting of upland game on designated areas of the refuge subject to brochures and posted regulations.

C. Big Game Hunting. We allow hunting of white-tailed deer on designated areas of the refuge subject to brochures and posted regulations.

D. Sport Fishing. We allow fishing on designated areas of the refuge subject to brochures and posted regulations.

* * * * *

Middle Mississippi River National Wildlife Refuge

A. Hunting of Migratory Game Birds. We allow hunting of migratory game birds on designated areas of the refuge subject to brochures and posted regulations.

B. Upland Game Hunting. We allow hunting of upland game on designated areas of the refuge subject to brochures and posted regulations.

C. Big Game Hunting. We allow hunting of white-tailed deer on designated areas of the refuge subject to brochures and posted regulations.

D. Sport Fishing. We allow fishing on designated areas of the refuge subject to brochures and posted regulations.

Port Louisa National Wildlife Refuge

A. Hunting of Migratory Game Birds. We allow hunting of migratory game birds on designated areas of the refuge subject to brochures and posted regulations.

B. Upland Game Hunting. We allow hunting of upland game on designated areas of the refuge subject to brochures and posted regulations.

C. Big Game Hunting. We allow hunting of white-tailed deer on designated areas of the refuge subject to brochures and posted regulations.

D. Sport Fishing. We allow fishing on designated areas of the refuge subject to brochures and posted regulations.

Two Rivers National Wildlife Refuge

A. Hunting of Migratory Game Birds. [Reserved]

B. Upland Game Hunting. We allow hunting of upland game on designated areas of the refuge subject to brochures and posted regulations.

C. Big Game Hunting. [Reserved]

D. Sport Fishing. We allow fishing on designated areas of the refuge subject to brochures and posted regulations.

Upper Mississippi River National Wildlife and Fish Refuge

A. Hunting of Migratory Game Birds. * * *

1. In areas posted “Area Closed” or “No Hunting Zone,” we prohibit hunting of migratory game birds at any time.

* * * * *

B. Upland Game Hunting. * * *

1. In areas posted “No Hunting Zone,” we prohibit hunting or possession of firearms at all times.

2. In areas posted “Area Closed,” we only allow hunting beginning the day after the close of the applicable State duck hunting season until upland game season closure or March 15, whichever occurs first, except we allow spring turkey hunting during State seasons.

3. On areas open to hunting, we prohibit hunting or possession of firearms from March 16 until the opening of State fall hunting seasons, except we allow spring turkey hunting during State seasons.

* * * * *

C. Big Game Hunting. * * *

1. In areas posted “No Hunting Zone,” we prohibit hunting or possession of firearms at all times.

2. In areas posted “Area Closed,” we only allow hunting beginning the day after the close of the applicable State duck hunting season until big game season closure or March 15, whichever occurs first.

3. On areas open to hunting, we only allow hunting or possession of firearms until season closure or March 15, whichever occurs first.

* * * * *

D. Sport Fishing. * * *

1. On Spring Lake Closed Areas, Carroll County, Illinois, we prohibit fishing from October 1 until the day after the close of the State duck hunting season.

2. On Mertes Slough, Buffalo County, Wisconsin, we allow only hand-powered boats or boats with electric motors.

11. In § 32.33 Indiana by alphabetically adding Big Oaks National Wildlife Refuge to read as follows:

§ 32.33 Indiana.

* * * * *

Big Oaks National Wildlife Refuge

A. Hunting of Migratory Game Birds. [Reserved]

B. Upland Game Hunting. [Reserved]

C. Big Game Hunting. We allow hunting of white-tailed deer and turkey on designated areas of the refuge subject to the following condition: We require a refuge access permit.

D. Sport Fishing. We allow fishing on designated areas of the refuge subject to the following condition: We require a refuge access permit.

* * * * *

12. In § 32.34 Iowa by:

a. Revising paragraphs B. and C. of Driftless Area National Wildlife Refuge;

b. Removing Mark Twain National Wildlife Refuge;

c. Revising paragraph B. of Neal Smith National Wildlife Refuge;

d. Alphabetically adding Port Louisa National Wildlife Refuge; and

e. Revising Union Slough National Wildlife Refuge to read as follows:

§ 32.34 Iowa.

* * * * *

Driftless Area National Wildlife Refuge

* * * * *

B. Upland Game Hunting. We allow hunting of upland game on designated areas of the refuge subject to the following conditions:

1. In areas posted “Area Closed,” we prohibit entry, including hunting.

2. In areas open to hunting, we allow hunting beginning November 1 until the close of State hunting seasons or January 15, whichever occurs first.

3. You may possess only approved nontoxic shot while hunting for any allowed birds or other small game.

C. Big Game Hunting. We allow hunting of white-tailed deer on designated areas of the refuge subject to the following conditions:

1. In areas posted “Area Closed,” we prohibit all public entry, including hunting.

2. In areas open to hunting, we allow hunting beginning November 1 until the close of State hunting seasons or January 15, whichever occurs first.

3. We allow archery and muzzleloader hunting only.

4. We allow deer drives only during lawful party hunting conducted within the refuge, in accordance with State regulations. We prohibit driving deer from or through the refuge to any persons hunting outside the refuge boundary.

5. We do not allow construction or use of permanent blinds, platforms, or ladders.

6. You must remove all stands from the refuge following each day's hunt.

* * * * *

Neal Smith National Wildlife Refuge

* * * * *

B. Upland Game Hunting. We allow hunting of ringnecked pheasant, bobwhite quail, cottontail rabbit, and squirrel on designated areas of the refuge subject to the following conditions:

1. You may possess only approved nontoxic shot while hunting for any permitted birds or other small game.

2. We allow hunting only during the dates posted at the refuge.

3. All hunters must wear one or more of the following articles of visible, external, solid-blaze-orange clothing: a hat, vest, coat, jacket, sweatshirt, sweater, shirt, or coveralls.

* * * * *

Port Louisa National Wildlife Refuge

Refer to § 32.32 Illinois for regulations.

Union Slough National Wildlife Refuge

A. Hunting of Migratory Game Birds. We allow hunting of migratory game birds on designated areas of the refuge subject to brochures and posted regulations.

B. Upland Game Hunting. We allow upland game hunting on designated areas of the refuge subject to brochures and posted regulations.

C. Big Game Hunting. We allow big game hunting on designated areas of the refuge subject to brochures and posted regulations.

D. Sport Fishing. We allow fishing on designated areas of the refuge subject to brochures and posted regulations.

* * * * *

13. In § 32.36 Kentucky by alphabetically adding Clarks River National Wildlife Refuge to read as follows:

§ 32.36 Kentucky.

* * * * *

Clarks River National Wildlife Refuge

A. Hunting of Migratory Game Birds. We allow hunting of geese, ducks, coots, woodcock, snipe, and mourning doves on designated areas of the refuge subject to State regulations and the following conditions:

1. Hunting of waterfowl will cease at 2:00 p.m. each day of open season.

2. You may use only portable or temporary blinds.

3. You must remove portable or temporary blinds and decoys from the refuge following each day's hunt.

4. You may possess only approved nontoxic shot while hunting waterfowl in the field.

5. The refuge is a day-use area only with the exception of legal hunting activities.

6. We prohibit the use of all-terrain vehicles on all refuge hunts.

7. We prohibit target practice on refuge property.

8. We prohibit mules and horses on refuge hunts.

9. You must unload and encase or dismantle firearms before transporting them in a vehicle or boat within the boundaries of the refuge or along rights-of-way for public or private land within the refuge.

10. Each hunter must have in his/her possession a current, signed copy of the Clarks River National Wildlife Refuge Hunting/Fishing Permit while participating in refuge hunts.

B. Upland Game Hunting. We allow hunting of quail, squirrel, rabbit, raccoon, opossum, bobcat and coyote on designated areas of the refuge subject to State regulations and the following conditions:

1. We prohibit mules and horses on refuge hunts.

2. We prohibit all-terrain vehicles on all refuge hunts.

3. The refuge is a day-use area only with the exception of legal hunting activities.

4. We prohibit target practice on refuge property.

5. We limit shotguns to no larger than 10 gauge. All shotgun ammunition must meet legal shot-size requirements for each hunted species. We limit the use of rifles and pistols to rimfire only for upland game.

6. You must unload and encase or dismantle firearms before transporting them in a vehicle or boat within the boundaries of the refuge or along rights-of-way for public or private land within the refuge.

7. You must have in your possession a current, signed copy of the Clarks River National Wildlife Refuge Hunting/Fishing Permit while participating in refuge hunts.

C. Big Game Hunting. We allow hunting of white-tailed deer and turkey on designated areas of the refuge subject to State regulations and the following conditions:

1. We prohibit the use or construction of any permanent tree stand.

2. We allow portable stands and climbing stands, but you must remove them from the tree when they are not in use.

3. We require safety belts at all times with the use of tree stands.

4. The refuge is a day-use area only with the exception of legal hunting activities.

5. We prohibit the use of all-terrain vehicles on all refuge hunts.

6. We prohibit mules and horses on refuge hunts.

7. You may not hunt by organized deer drives of two or more hunters. The definition of drive is: the act of chasing, pursuing, disturbing, or otherwise directing deer so as to make the animals more susceptible to harvest.

8. We prohibit target practice on refuge property.

9. You must unload and encase or dismantle firearms before transporting them in a vehicle or boat within the boundaries of the refuge or along rights-of-way for public or private land within the refuge.

10. You must have in your possession a current, signed copy of the Clarks River National Wildlife Refuge Hunting/Fishing Permit while participating in refuge hunts.

D. Sport Fishing. We allow sport fishing on designated areas of the refuge subject to State regulations, any refuge-specific regulations listed in the Clarks River National Wildlife Refuge Hunting/Fishing Permit, and the following conditions:

1. The refuge is a day-use area only with the exception of legal fishing activities.

2. You must have in your possession a current, signed copy of the Clarks River National Wildlife Refuge Hunting/Fishing Permit while fishing on the refuge.

* * * * *

14. In § 32.37 Louisiana by:

a. Adding paragraphs A.3., B.3., and C.3., and revising paragraph D.2. of Atchafalaya National Wildlife Refuge;

b. Revising paragraphs A. and D.1. of Bayou Cocodrie National Wildlife Refuge;

c. Revising the introductory text of paragraph A., paragraph A.1., the introductory text of paragraph B., and paragraphs B.1., C.1., and D.1. of Lake Ophelia National Wildlife Refuge; and

d. Revising paragraphs A., B., and C. of Upper Ouachita National Wildlife Refuge to read as follows:

§ 32.37 Louisiana.

* * * * *

Atchafalaya National Wildlife Refuge

A. Hunting of Migratory Game Birds. * * *

* * * * *

3. For the Shatters Bayou Unit, hunting must be in accordance with the Attakapas Wildlife Management Area rules and regulations.

B. Upland Game Hunting. * * *

* * * * *

3. For the Shatters Bayou Unit, hunting must be in accordance with the Attakapas Wildlife Management Area rules and regulations.

C. Big Game Hunting. * * *

* * * * *

3. For the Shatters Bayou Unit, hunting must be in accordance with the Attakapas Wildlife Management Area rules and regulations.

D. Sport Fishing. * * *

* * * * *

2. For the Indian Bayou and Shatters Bayou Unit, we require an Army Corps of Engineers permit for commercial shellfishing.

Bayou Cocodrie National Wildlife Refuge

A. Hunting of Migratory Game Birds. You may hunt ducks, coots, woodcock, and snipe on designated areas of the refuge subject to the following condition: We require a refuge permit.

* * * * *

D. Sport Fishing. * * *

1. Anglers must possess a refuge permit.

* * * * *

Lake Ophelia National Wildlife Refuge

A. Hunting of Migratory Game Birds. We allow hunting of ducks, geese, coots, woodcock, and snipe on designated areas of the refuge subject to the following conditions:

1. We require a refuge permit.

* * * * *

B. Upland Game Hunting. We allow hunting of squirrel, rabbit, raccoon, feral hog, beaver, nutria, and coyote on designated areas of the refuge subject to the following conditions:

1. We require a refuge permit.

* * * * *

C. Big Game Hunting. * * *

1. We require a refuge permit.

* * * * *

D. Sport Fishing. * * *

1. We require a refuge permit.

* * * * *

Upper Ouachita National Wildlife Refuge

A. Hunting of Migratory Game Birds. We allow hunting of ducks, geese, coots, mourning doves, and woodcock on designated areas of the refuge subject to the following condition: We require a refuge permit.

B. Upland Game Hunting. We allow hunting of quail, squirrel, rabbit, raccoon, and opossum on designated areas of the refuge subject to the following condition: We require a refuge permit.

C. Big Game Hunting. We allow hunting of white-tailed deer on designated areas of the refuge subject to the following condition: We require a refuge permit.

* * * * *

15. In § 32.38 Maine by alphabetically adding Petit Manan National Wildlife Refuge to read as follows:

§ 32.38 Maine.

* * * * *

Petit Manan National Wildlife Refuge

A. Hunting of Migratory Game Birds. We allow hunting of ducks, geese, woodcock, rails, gallinules, and snipe on designated areas of the refuge subject to the following conditions:

1. You may not erect permanent waterfowl blinds on the refuge.

2. You must remove all temporary blinds, concealment materials, boats, and decoys following each day's hunt.

B. Upland Game Hunting. We allow hunting of upland game on designated areas of the refuge subject to the following conditions:

1. You may possess only approved nontoxic shot while in the field.

2. We prohibit the use of pursuit or trailing dogs on the refuge.

3. We prohibit the hunting of crows on the refuge.

4. The refuge will be open to hunting of coyotes no earlier than November 1 and no later than March 31.

C. Big Game Hunting. We allow hunting of white-tailed deer and bear on designated areas of the refuge subject to the following conditions:

1. We prohibit the use of pursuit or trailing dogs on the refuge.

2. We allow black bear hunting only during the firearm season for white-tailed deer.

3. You must remove all tree stands by the last day of the white-tailed deer hunting season.

4. We close the refuge to all visitation from sunrise to sunset. However, during hunting season, we allow hunters to enter the refuge ½ hour prior to sunrise and remain on the refuge ½ hour after sunset.

D. Sport Fishing. [Reserved]

* * * * *

16. In § 32.40 Massachusetts by revising paragraph D.1. of Parker River National Wildlife Refuge to read as follows:

§ 32.40 Massachusetts.

* * * * *

Parker River National Wildlife Refuge

* * * * *

D. Sport Fishing. * * *

1. We allow saltwater fishing on the ocean beach and the surrounding waters of the Broad Sound.

* * * * *

17. In § 32.42 Minnesota by:

a. Revising Fergus Falls Wetland Management District;

b. Alphabetically adding Litchfield Wetland Management District; and

c. Revising paragraphs A., B., and C., in Windom Wetland Management District to read as follows:

§ 32.42 Minnesota.

* * * * *

Fergus Falls Wetland Management District

A. Hunting of Migratory Game Birds. We allow hunting of migratory game birds throughout the district except that we allow no hunting on the Townsend, Headquarters, Mavis, and Gilmore Waterfowl Production Areas (WPA) in Otter Tail County, and Larson WPA in Douglas County.

B. Upland Game Hunting. We allow upland game hunting throughout the district except that we allow no hunting on the Townsend, Headquarters, Mavis, and Gilmore WPAs in Otter Tail County, and Larson WPA in Douglas County.

C. Big Game Hunting. We allow big game hunting throughout the district except that we allow no hunting on the Townsend, Headquarters, Mavis, and Gilmore WPAs in Otter Tail County, and Larson WPA in Douglas County.

D. Sport Fishing. We allow sport fishing throughout the district except that we allow no fishing on the Townsend, Headquarters, Mavis, and Gilmore WPAs in Otter Tail County, and Larson WPA in Douglas County.

Litchfield Wetland Management District

A. Hunting of Migratory Game Birds. We allow hunting of migratory game birds throughout the district subject to the following conditions:

1. You must remove boats, decoys, and other personal property following each day's hunt.

2. You must remove portable or temporary blinds and any material brought onto the area for blind construction following each day's hunt.

B. Upland Game Hunting. We allow upland game hunting throughout the district.

C. Big Game Hunting. We allow big game hunting throughout the district subject to the following conditions:

1. We do not allow construction or use of permanent blinds, stands, or platforms.

2. You must remove all temporary blinds, stands, or platforms following each day's hunt.

D. Sport Fishing. We allow fishing throughout the district.

* * * * *

Windom Wetland Management District

A. Hunting of Migratory Game Birds. We allow hunting of migratory game birds throughout the district except that you may not hunt on the Worthington Waterfowl Production Area (WPA) in Nobles County, Headquarters WPA in Jackson County, or designated portions of the Wolf Lake WPA in Cottonwood County.

B. Upland Game Hunting. We allow hunting of upland game throughout the district except that you may not hunt on the Worthington WPA in Nobles County, Headquarters WPA in Jackson County, or designated portions of the Wolf Lake WPA in Cottonwood County.

C. Big Game Hunting. We allow hunting of big game throughout the district except that you may not hunt on the Worthington WPA in Nobles County, Headquarters WPA in Jackson County, or designated portions of the Wolf Lake WPA in Cottonwood County.

* * * * *

18. In § 32.43 Mississippi by:

a. Alphabetically adding Grand Bay National Wildlife Refuge;

b. Revising Hillside National Wildlife Refuge;

c. Revising Mathews Brake National Wildlife Refuge;

d. Revising Morgan Brake National Wildlife Refuge;

e. Revising Panther Swamp National Wildlife Refuge; and

f. Revising Yazoo National Wildlife Refuge to read as follows:

§ 32.43 Mississippi.

* * * * *

Grand Bay National Wildlife Refuge

A. Hunting of Migratory Game Birds. We allow hunting of geese, ducks, coots, and mourning doves on designated areas of the refuge subject to State regulations and the following conditions:

1. Hunting of waterfowl will cease at 2:00 p.m. each day of open season.

2. You may use only portable or temporary blinds.

3. You must remove portable or temporary blinds and decoys from the refuge following each day's hunt.

4. You may possess only approved nontoxic shot while hunting waterfowl in the field.

5. The refuge is a day-use area only with the exception of legal hunting activities.

6. We prohibit the use of all-terrain vehicles on all refuge hunts.

7. We prohibit target practice on refuge property.

8. We prohibit mules and horses on refuge hunts.

9. You must unload and encase or dismantle firearms before transporting them in a vehicle or boat within the boundaries of the refuge or along rights-of-way for public or private land within the refuge.

10. Each hunter must have in his/her possession a current, signed copy of the Grand Bay National Wildlife Refuge Hunting Permit while participating in refuge hunts.

B. Upland Game Hunting. We allow hunting of squirrel on designated areas of the refuge subject to State regulations and the following conditions:

1. We prohibit mules and horses on refuge hunts.

2. We prohibit the use of all-terrain vehicles on all refuge hunts.

3. The refuge is a day-use area only with the exception of legal hunting activities.

4. We prohibit target practice on refuge property.

5. We limit shotguns to no larger than 10 gauge. All shotgun ammunition must meet legal shot-size requirements.

6. You must unload and encase or dismantle firearms before transporting them in a vehicle or boat within the boundaries of the refuge or along rights-of-way for public or private land within the refuge.

7. Each hunter must have in his/her possession a current, signed copy of the Grand Bay National Wildlife Refuge Hunting Permit while participating in refuge hunts.

C. Big Game Hunting. We allow hunting of white-tailed deer and feral hog on designated areas of the refuge subject to State regulations and the following conditions:

1. We prohibit the use or construction of any permanent tree stand.

2. We allow portable and climbing stands, but you must remove them from the tree when not in use or they will be subject to confiscation.

3. We require safety belts at all times with the use of tree stands.

4. The refuge is a day-use area only with the exception of legal hunting activities.

5. We prohibit the use of all-terrain vehicles on all refuge hunts.

6. We prohibit the use of mules and horses on refuge hunts.

7. You may not hunt by organized deer drives of two or more hunters. The definition of drive is: the act of chasing, pursuing, disturbing, or otherwise directing deer so as to make the animals more susceptible to harvest.

8. We prohibit target practice on refuge property.

9. You must unload and encase or dismantle firearms before transporting them in a vehicle or boat within the boundaries of the refuge or along rights-of-way for public or private land within the refuge.

10. You must have in your possession a current, signed copy of the Grand Bay National Wildlife Refuge Hunting Permit while participating in refuge hunts.

D. Sport Fishing. [Reserved]

Hillside National Wildlife Refuge

A. Hunting of Migratory Game Birds. We allow hunting of mourning doves, waterfowl, and coots on designated areas of the refuge subject to the following condition: We require a refuge permit.

B. Upland Game Hunting. We allow hunting of quail, rabbit, squirrel, and raccoon on designated areas of the refuge subject to the following condition: We require a refuge permit.

C. Big Game Hunting. We allow hunting of white-tailed deer on designated areas of the refuge subject to the following condition: We require a refuge permit.

D. Sport Fishing. We allow fishing and frogging in designated portions of the refuge subject to the following condition: We require a refuge permit.

Mathews Brake National Wildlife Refuge

A. Hunting of Migratory Game Birds. We allow hunting of mourning doves, waterfowl, and coots on designated areas of the refuge subject to the following condition: We require a refuge permit.

B. Upland Game Hunting. We allow hunting of quail, rabbit, squirrel, and raccoon on designated areas of the refuge subject to the following condition: We require a refuge permit.

C. Big Game Hunting. We allow hunting of white-tailed deer on designated areas of the refuge subject to the following condition: We require a refuge permit.

D. Sport Fishing. We allow fishing and frogging on designated portions of the refuge subject to the following condition: We require a refuge permit.

Morgan Brake National Wildlife Refuge

A. Hunting of Migratory Game Birds. We allow hunting of mourning doves, waterfowl, and coots on designated areas of the refuge subject to the following condition: We require a refuge permit.

B. Upland Game Hunting. We allow hunting of quail, rabbit, squirrel, and raccoon on designated areas of the refuge subject to the following condition: We require a refuge permit.

C. Big Game Hunting. We allow hunting of white-tailed deer on designated areas of the refuge subject to the following condition: We require a refuge permit.

D. Sport Fishing. We allow fishing and frogging in designated portions of the refuge subject to the following condition: We require a refuge permit.

* * * * *

Panther Swamp National Wildlife Refuge

A. Hunting of Migratory Game Birds. We allow hunting of mourning doves, waterfowl, and coots on designated areas of the refuge subject to the following condition: We require a refuge permit.

B. Upland Game Hunting. We allow hunting of quail, rabbit, squirrel, and raccoon on designated areas of the refuge subject to the following condition: We require a refuge permit.

C. Big Game Hunting. We allow hunting of white-tailed deer and turkey on designated areas of the refuge subject to the following condition: We require a refuge permit.

D. Sport Fishing. We allow fishing and frogging in designated portions of the refuge subject to the following condition: We require a refuge permit.

* * * * *

Yazoo National Wildlife Refuge

A. Hunting of Migratory Game Birds. We allow hunting of waterfowl on designated areas of the refuge subject to the following condition: We require a refuge permit. Please consult the refuge brochure for species information.

B. Upland Game Hunting. We allow hunting of rabbit, squirrel, and raccoon on designated areas of the refuge subject to the following condition: We require a refuge permit.

C. Big Game Hunting. We allow hunting of white-tailed deer and turkey on designated areas of the refuge subject to the following condition: We require a refuge permit.

D. Sport Fishing. [Reserved]

19. In § 32.44 Missouri by:

a. Alphabetically adding Clarence Cannon National Wildlife Refuge;

b. Alphabetically adding Great River National Wildlife Refuge;

c. Removing Mark Twain National Wildlife Refuge;

d. Alphabetically adding Middle Mississippi River National Wildlife Refuge; and

e. Alphabetically adding Two Rivers National Wildlife Refuge to read as follows:

§ 32.44 Missouri.

* * * * *

Clarence Cannon National Wildlife Refuge

A. Hunting of Migratory Game Birds. [Reserved]

B. Upland Game Hunting. [Reserved]

C. Big Game Hunting. We allow hunting of white-tailed deer on designated areas of the refuge subject to posted regulations.

D. Sport Fishing. We allow fishing on designated areas of the refuge subject to posted regulations.

Great River National Wildlife Refuge

Refer to § 32.32 Illinois for regulations.

Middle Mississippi River National Wildlife Refuge

Refer to § 32.32 Illinois for regulations.

* * * * *

Two Rivers National Wildlife Refuge

Refer to § 32.32 Illinois for regulations.

20. In § 32.47 Nevada by revising paragraphs A. and D. of Ruby Lake National Wildlife Refuge to read as follows:

§ 32.47 Nevada.

* * * * *

Ruby Lake National Wildlife Refuge

A. Hunting of Migratory Game Birds. We allow hunting of geese, ducks, coots, moorhens, and snipe on designated areas of the refuge in accordance with State laws and subject to the following conditions:

1. The refuge is open to the public from 1 hour before sunrise until 2 hours after sunset.

2. We do not allow off-road vehicles on the refuge.

3. We do not allow permanent or pit blinds on the refuge. You must remove all blind materials and decoys following each day's hunt.

* * * * *

D. Sport Fishing. We allow fishing on designated areas of the refuge in accordance with State laws and subject to the following conditions:

1. The refuge is open to the public from 1 hour before sunrise until 2 hours after sunset.

2. We allow fishing only from the dikes in the areas north of the Brown Dike and east of the Collection Ditch, with the exception that you may fish from foot-propelled, personal flotation devices (float tubes) in designated areas.

3. We prohibit fishing from the bank on the South Marsh except at Brown Dike, the Main Boat Landing, and Narciss Boat Landing.

4. You may use only artificial lures in the Collection Ditch and spring ponds adjoining the ditch.

5. We do not allow boats on the refuge beginning January 1 through June 14.

6. During the boating season, we allow boats only on the South Marsh. Beginning June 15 through July 31, we allow only motorless boats or boats with battery-powered electric motors. Beginning August 1 through December 31, we allow only motorless boats and boats propelled by motors with a total of 10 hp or less.

7. You may launch boats only from designated landings.

8. We do not allow storage of boats of any kind on the refuge beginning January 1 through May 31.

9. We do not allow off-road vehicles on the refuge.

* * * * *

21. In § 32.49 New Jersey by revising paragraphs A., C.5., and D. of Supawna Meadows National Wildlife Refuge to read as follows:

§ 32.49 New Jersey.

* * * * *

Supawna Meadows National Wildlife Refuge

A. Hunting of Migratory Game Birds. We allow hunting of geese and ducks on designated areas of the refuge during designated refuge seasons subject to the following conditions:

1. We allow loaded and uncased firearms in an unanchored boat only when retrieving crippled birds.

2. You must remove all hunting blind materials, boats, and decoys following each day's hunt. We do not allow permanent blinds.

3. You may possess only approved nontoxic shot while in the field.

* * * * *

C. Big Game Hunting. * * *

* * * * *

5. You may only use single-projectile ammunition when hunting from a stand elevated at least 6 feet (1.8 m) above ground level and only in firearms equipped with adjustable sights or a scope. Hunters may use buckshot when hunting from the ground or from stands less than 6 feet above ground level.

D. Sport Fishing. We allow fishing and crabbing on the refuge in designated areas subject to the following conditions:

1. We prohibit the taking of frogs, salamanders, and turtles from all nontidal waters and refuge lands.

2. We prohibit fishing in designated nontidal waters from sunset to sunrise.

3. We prohibit bow fishing in nontidal waters.

* * * * *

22. In § 32.50 New Mexico by:

a. Revising Bitter Lake National Wildlife Refuge; and

b. Revising paragraph C. of Bosque del Apache National Wildlife Refuge to read as follows:

§ 32.50 New Mexico.

* * * * *

Bitter Lake National Wildlife Refuge

A. Hunting of Migratory Game Birds. We allow hunting of geese, ducks, coots, mourning doves, and sandhill cranes on designated areas of the refuge subject to the following conditions:

1. You may hunt during seasons, dates, times, and areas posted by signs and/or indicated on refuge leaflets, special regulations, and maps available at the refuge office.

2. You may possess only approved nontoxic shot while in the field.

3. We do not allow pit or permanent blinds.

4. Neither hunters nor dogs may enter closed areas to retrieve game.

B. Upland Game Hunting. We allow hunting of pheasant, quail, cottontail, and jack rabbit on designated areas of the refuge subject to the following conditions:

1. We allow hunting during seasons, dates, times, and areas as posted by signs and/or indicated on refuge leaflets, special regulations, and maps available at the refuge office.

2. You may possess only approved nontoxic shot while in the field.

C. Big Game Hunting. We allow hunting of mule deer and white-tailed deer on designated areas of the refuge subject to the following condition: We allow hunting during seasons, dates, times, and areas as posted by signs and/or indicated on refuge leaflets, special regulations, and maps available at the refuge office.

D. Sport Fishing. [Reserved]

Bosque del Apache National Wildlife Refuge

* * * * *

C. Big Game Hunting. We allow hunting of mule deer on designated areas of the refuge subject to the following conditions:

1. Refer to refuge map for designated areas.

2. Hunts are subject to State regulations and seasons.

* * * * *

23. In § 32.52 North Carolina by:

a. Revising paragraph D. of Pea Island National Wildlife Refuge; and

b. Revising paragraphs A., B.1., and C. of Roanoke River National Wildlife Refuge to read as follows:

§ 32.52 North Carolina.

* * * * *

Pea Island National Wildlife Refuge

* * * * *

D. Sport Fishing. We allow fishing and crabbing on designated areas of the refuge subject to the following conditions:

1. We prohibit fishing and crabbing in North Pond, South Pond, and Newfield impoundments.

2. We require a refuge permit for night fishing.

* * * * *

Roanoke River National Wildlife Refuge

A. Hunting of Migratory Game Birds. We allow hunting of ducks and coots on designated areas of the refuge subject to the following condition: We require a State-issued refuge permit.

B. Upland Game Hunting. * * *

1. We require a State-issued refuge permit.

* * * * *

C. Big Game Hunting. We allow hunting of white-tailed deer and turkey on designated areas of the refuge subject to the following condition: We require a State-issued refuge permit.

* * * * *

24. In § 32.53 North Dakota by:

a. Revising Lake Alice National Wildlife Refuge;

b. Revising paragraph C.2. of Long Lake National Wildlife Refuge; and

c. Revising paragraph C. of Slade National Wildlife Refuge to read as follows:

§ 32.53 North Dakota.

* * * * *

Lake Alice National Wildlife Refuge

A. Hunting of Migratory Game Birds. We allow hunting of geese, tundra swans, ducks, coots, and mourning doves on designated areas of the refuge; consult refuge publication.

B. Upland Game Hunting. We allow upland game and furbearer hunting on designated portions of the refuge at certain times of the year; consult refuge publication.

C. Big Game Hunting. We allow special refuge permit holders to hunt deer and fox with rifles during the State firearm deer season on designated portions of the refuge subject to the following conditions:

1. We allow fox hunting on certain areas of the refuge outside of the State firearm deer season without a special refuge permit; consult refuge publication.

2. We allow archery hunting on designated portions of the refuge; consult refuge publication.

D. Sport Fishing. [Reserved]

* * * * *

Long Lake National Wildlife Refuge

* * * * *

C. Big Game Hunting.

* * * * *

2. We restrict archery hunters to the portions of the refuge open to firearm deer hunting during the State firearm deer season. Prior to and following the firearm deer season, we open additional refuge areas as designated to archery deer hunting.

* * * * *

Slade National Wildlife Refuge

* * * * *

C. Big Game Hunting. We allow hunting of deer on designated areas of the refuge subject to the following condition: Hunters may enter the refuge on foot only.

* * * * *

25. In § 32.55 Oklahoma by:

a. Revising paragraphs A., B., C., and revising the introductory text of paragraph D. and paragraph D.1. of Deep Fork National Wildlife Refuge;

b. Adding paragraph A.6., revising paragraph B.5., the introductory text of paragraph C. and paragraph C.1., adding paragraphs C.3. and C.4., and revising the introductory text of paragraph D. and paragraph D.1. of Little River National Wildlife Refuge; and

c. Adding paragraph B.3. of Washita National Wildlife Refuge to read as follows:

§ 32.55 Oklahoma.

* * * * *

Deep Fork National Wildlife Refuge

A. Hunting of Migratory Game Birds. You may hunt ducks in designated areas of the refuge subject to the following condition: You must possess a refuge permit.

B. Upland Game Hunting. You may hunt squirrel, rabbit, and raccoon in designated areas of the refuge subject to the following condition: You must possess a refuge permit.

C. Big Game Hunting. You may hunt white-tailed deer in designated areas of the refuge subject to the following condition: You must possess a refuge permit.

D. Sport Fishing. You may sport fish on the refuge in designated areas subject to the following conditions:

1. The refuge is open to fishing as specified in refuge leaflets, special regulations, permits, maps or as posted on signs.

* * * * *

Little River National Wildlife Refuge

A. Hunting of Migratory Game Birds. *

* * * * *

6. You must obtain a refuge permit.

B. Upland Game Hunting. * * *

* * * * *

5. You must obtain a refuge permit.

C. Big Game Hunting. You may hunt deer and feral hog on designated areas of the refuge subject to the following conditions:

1. Deer hunters must obtain a refuge permit and pay fees.

* * * * *

3. You may hunt feral hog during any established refuge hunting season. Refuge permits and legal weapons apply as for the current hunting season.

4. You must obtain a refuge permit.

D. Sport Fishing. We allow fishing on designated areas of the refuge subject to the following conditions:

1. You may fish from sunrise to sunset.

* * * * *

Washita National Wildlife Refuge

* * * * *

B. Upland Game Hunting.

* * * * *

3. You may possess only approved nontoxic shot while in the field.

* * * * *

26. In § 32.56 Oregon by revising paragraphs A.1. and C. of Malheur National Wildlife Refuge to read as follows:

§ 32.56 Oregon.

* * * * *

Malheur National Wildlife Refuge

A. Hunting of Migratory Game Birds. * * *

1. We allow only nonmotorized boats or boats with electric motors.

* * * * *

C. Big Game Hunting. We allow hunting of deer and pronghorn during the authorized State seasons on the refuge area west of Highway 205 and south of Foster Road.

* * * * *

27. In § 32.57 Pennsylvania by revising paragraph B.1. of Erie National Wildlife Refuge to read as follows:

§ 32.57 Pennsylvania.

* * * * *

Erie National Wildlife Refuge

* * * * *

B. Upland Game Hunting. * * *

1. We require refuge permits for hunting fox, raccoon, and coyote.

* * * * *

28. In § 32.60 South Carolina by revising paragraphs A., B., and C., of Santee National Wildlife Refuge to read as follows:

§ 32.60 South Carolina.

* * * * *

Santee National Wildlife Refuge

A. Hunting of Migratory Game Birds. We allow hunting of mourning doves on designated areas of the refuge subject to the following condition: We require a refuge permit.

B. Upland Game Hunting. We allow hunting on designated areas of the refuge subject to the following condition: We require a refuge permit.

C. Big Game Hunting. We allow hunting of white-tailed deer on designated areas of the refuge subject to the following condition: We require a refuge permit.

* * * * *

29. In § 32.61 South Dakota by revising paragraphs A. and D. of Lacreek National Wildlife Refuge to read as follows:

§ 32.61 South Dakota.

* * * * *

Lacreek National Wildlife Refuge

A. Hunting of Migratory Game Birds. We allow waterfowl hunting on designated areas of the refuge in accordance with State law.

* * * * *

D. Sport Fishing. We allow fishing in areas posted as open in accordance with State law.

* * * * *

30. In § 32.62 Tennessee by revising paragraphs B., C., and D.4. of Cross Creeks National Wildlife Refuge to read as follows:

§ 32.62 Tennessee.

* * * * *

Cross Creeks National Wildlife Refuge

* * * * *

B. Upland Game Hunting. We allow hunting of squirrel on designated areas of the refuge subject to the following condition: We require a refuge permit.

C. Big Game Hunting. We allow hunting of white-tailed deer and turkey on designated areas of the refuge subject to the following condition: We require a refuge permit.

D. Sport Fishing. * * *

* * * * *

4. Fish lengths and daily creel limits established for Barley Reservoir by the Tennessee Wildilfe Resources Agency apply to all waters within the boundary of the refuge.

* * * * *

31. In § 32.63 Texas by:

a. Revising paragraphs C. and D. of Aransas National Wildlife Refuge; and

b. Revising paragraph A.5. and adding paragraphs C.9., C.10., and C.11. of Balcones Canyonlands National Wildlife Refuge to read as follows:

§ 32.63 Texas.

* * * * *

Aransas National Wildlife Refuge

* * * * *

C. Big Game Hunting. We allow hunting of white-tailed deer and feral hog on designated areas of the refuge subject to the following conditions:

1. We may immediately close the entire refuge or any portion thereof to hunting in the event of the appearance of whooping cranes in the hunt area.

2. You must obtain a refuge permit and pay a fee.

3. You may not use dogs to trail game.

4. You may not possess alcoholic beverages while on the refuge.

5. We will annually designate bag limits in the refuge hunt brochure.

6. We allow archery hunting in October within the deer season for the county on specified days listed in the refuge hunt brochure.

7. We allow firearm hunting in November within the deer season for the county on specified days listed in the refuge hunt brochure.

8. Firearm hunters must wear a total of 400 square inches (10.16 m²) hunter orange including 144 square inches (936 cm²) visible in front and 144 square inches visible in rear. Some hunter orange must appear on head gear.

9. You must unload and encase all firearms while in a vehicle.

10. You may not hunt on or across any part of the refuge road system, or hunt from a vehicle on any refuge road or road right-of-way.

11. You may hunt white-tailed deer and feral hog on designated areas of Matagorda Island in accordance with the State permit system as administered by Texas Parks and Wildlife Department.

D. Sport Fishing. We allow fishing on designated areas of the refuge subject to the following conditions:

1. You may not use crab traps in any refuge marshes, including Matagorda Island.

2. Beginning April 15 through October 15, you may fish on the refuge only in areas designated in the refuge fishing brochure.

3. You may fish all year in marshes on Matagorda Island and in areas designated in the refuge fishing brochure.

Balcones Canyonlands National Wildlife Refuge

A. Hunting of Migratory Game Birds. * * *

* * * * *

5. We allow dogs to retrieve game birds during the hunt, but the dogs must be under control of the handler at all times and not allowed to roam free.

* * * * *

C. Big Game Hunting. * * *

* * * * *

9. You may not use dogs for hunting.

10. You may not camp.

11. You may only use vehicles on designated roads and parking areas.

* * * * *

32. In § 32.67 Washington by:

a. Removing Arid Lands National Wildlife Refuge Complex;

b. Alphabetically adding Hanford Reach National Monument/Saddle Mountain National Wildlife Refuge; and

c. Revising paragraphs A. and C. of Willapa National Wildlife Refuge to read as follows:

§ 32.67 Washington.

* * * * *

Hanford Reach National Monument/Saddle Mountain National Wildlife Refuge

A. Hunting of Migratory Game Birds. We allow hunting of geese, ducks, coots, mourning doves, and common snipe on the Wahluke Unit and designated Columbia River islands (those islands downstream of the Bonneville Powerline crossing, between River Mile 351 and 341) of the Monument/Refuge in accordance with State regulations and subject to the following conditions:

1. You may possess only approved nontoxic shot while on the refuge.

2. We allow access from 2 hours before sunrise to 2 hours after sunset. We do not allow overnight camping and/or parking.

3. We close the furthest downstream island (Columbia River Mile 341-343) to hunting.

B. Upland Game Hunting. We allow hunting of pheasant, quail, and partridge on designated areas on the Wahluke Unit of the Monument/Refuge in accordance with State regulations and subject to the conditions listed below:

1. You may possess only approved nontoxic shot while on the refuge.

2. We allow only shotguns and archery hunting.

3. We allow access from 2 hours before sunrise to 2 hours after sunset. We prohibit overnight camping and/or parking.

C. Big Game Hunting. We allow hunting of deer on the Wahluke Unit of the Monument/Refuge in accordance with State regulations and subject to the following conditions:

1. We allow only shotguns, muzzleloaders, and archery hunting.

2. We allow access from 2 hours before sunrise to 2 hours after sunset. We prohibit overnight camping and/or parking.

D. Sport Fishing. We allow fishing on the Wahluke Unit and designated Columbia River islands of the Monument/Refuge (those islands downstream of the Bonneville Powerline crossing, between River Mile 351 and 341) in accordance with State regulations and subject to the following conditions:

1. We allow access to the islands from July 1 to September 30, except for Islands 18 and 19 (downstream of Johnson Island), where we allow access from July 31 to September 30.

2. We allow access from 2 hours before sunrise to 2 hours after sunset. We prohibit overnight camping and/or parking.

3. We allow nonmotorized boats and boats with electric motors on the WB-10 Ponds, with walk-in access only.

* * * * *

Willapa National Wildlife Refuge

A. Hunting of Migratory Game Birds. We allow hunting of geese, ducks, coots, and snipe on designated areas of Riekkola, Lewis, Tarlatt Slough, and Leadbetter Units in accordance with State hunting regulations and subject to the following conditions:

1. Prior to entering the hunt area at the Riekkola and Tarlatt Slough Units, we require you to obtain a refuge permit, pay a recreation user fee, and obtain a blind assignment.

2. At the Riekkola and Tarlatt Slough Units, you may take ducks and coots only coincidental to hunting geese.

3. We allow hunting on Wednesday and Saturday in the Riekkola and Tarlatt Slough Units only from established blinds.

4. At the Lewis Unit, we prohibit hunting from the outer dike that separates the bay from the freshwater wetlands.

5. At the Riekkola and Tarlatt Slough Units, you may possess no more than 25 approved nontoxic shells per day while in the field.

6. At the Leadbetter Unit, you may possess only approved nontoxic shot.

* * * * *

C. Big Game Hunting. We allow hunting of deer, elk, and bear on Long Island and on designated areas of the Bear River Unit, in accordance with State hunting regulations and subject to the following conditions:

1. At Long Island you must possess a valid refuge permit and report game taken, as specified with the permit.

2. At Long Island we allow only archery hunting and prohibit firearms.

3. At Bear River we do not allow bear hunting.

4. We prohibit dogs.

* * * * *

33. In § 32.69 Wisconsin by:

a. Revising paragraph C.1. of Fox River National Wildlife Refuge;

b. Revising paragraph D. of Horicon National Wildlife Refuge;

c. Revising paragraphs A. and B. of St. Croix Wetland Management District; and

d. Revising Trempealeau National Wildlife Refuge to read as follows:

§ 32.69 Wisconsin.

* * * * *

Fox River National Wildlife Refuge

* * * * *

C. Big Game Hunting. * * *

1. We require refuge permits during designated time periods.

* * * * *

Horicon National Wildlife Refuge

* * * * *

D. Sport Fishing. We allow fishing on designated areas of the refuge subject to the following condition: We allow only bank fishing.

* * * * *

St. Croix Wetland Management District

A. Hunting of Migratory Game Birds. We allow hunting of migratory game birds throughout the district except that you may not hunt on designated portions posted as closed of the St. Croix Prairie Waterfowl Production Area (WPA) in St. Croix County.

B. Upland Game Hunting. We allow hunting of upland game throughout the district except that you may not hunt on designated portions posted as closed of the St. Croix Prairie WPA in St. Croix County.

* * * * *

Trempealeau National Wildlife Refuge

A. Hunting of Migratory Game Birds. We allow hunting of migratory game birds on designated areas of the refuge subject to the following condition: We require a refuge permit.

B. Upland Game Hunting. We allow hunting of upland game on designated areas of the refuge subject to the following condition: We require a refuge permit.

C. Big Game Hunting. We allow hunting of white-tailed deer on designated areas of the refuge subject to the following condition: We require a refuge permit.

D. Sport Fishing. We allow fishing on designated areas of the refuge subject to the following conditions:

1. We allow only hand-powered boats or boats with electric motors on the refuge.

2. You must remove ice fishing shelters from the refuge following each day's hunt.

3. We prohibit possessing archery or spearing equipment on refuge pools at any time. We allow taking rough fish by bow and arrow or spear only along the refuge boundary in the backwaters of the Trempealeau River, in accordance with State regulations.

* * * * *

34. In § 32.72 Guam by revising paragraph D. of Guam National Wildlife Refuge to read as follows:

§ 32.72 Guam.

* * * * *

Guam National Wildlife Refuge

* * * * *

D. Sport Fishing. Anglers may fish and collect marine life on designated areas of the refuge only in accordance with refuge and Government of Guam laws and regulations. The leaflet is available at the refuge headquarters and anglers are subject to the following additional conditions:

1. Anglers may be on the refuge from 8:30 a.m. until 5:00 p.m. daily, except Thanksgiving, Christmas, and New Year's Day.

2. We prohibit overnight camping on the refuge.

3. You may not possess surround or gill nets on the refuge.

4. We prohibit the collection of corals, giant clams (Tridacna and Hippopus spp.), and coconut crabs (Birgus latro) on the refuge.

Dated: August 23, 2001.
Joseph E. Doddridge,
Acting Assistant Secretary for Fish and Wildlife and Parks.

[FR Doc. 01-22035 Filed 8-31-01; 8:45 am]

BILLING CODE 4310-55-P